FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
016914NF | Air Sea Cargo Network, Inc., 33511 Western Avenue, Union City, CA 94587 | January 1, 2004.
015893N | Altamar Shipping Services, Inc., 2212½ E. 5th Avenue, Tampa, FL 33505 | January 28, 2004.
016254N | China United Transport, Inc., 17101 Gale Avenue, City of Industry, CA 91745 | January 14, 2004.
015871N | Continental Shipping Line, Inc., 274 Madison Avenue, Suite 1404, New York, NY 10016 | February 3, 2004.
017642N | Direct Shipping, Corp., dba Direct Shipping Line, 1371 South Santa Fe Avenue, Compton, CA 90221 | November 5, 2003.
3134F | Enterprise Forwarders, Inc., 2350 NW 93rd Avenue, Miami, FL 33172 | December 12, 2003.
17310N | J.M.C. Transport Corporation, 9133, South La Cienega Blvd., Suite 120, Inglewood, CA 90301 | December 4, 2003.
1199N | Suarez Shipping Services, Inc., 5413 NW 72nd Avenue, Miami, FL 33126 | December 25, 2003.

Sandra L. Kusumoto,
Director, Bureau of Consumer Complaints and Licensing.

[FR Doc. 04-4200 Filed 2-24-04; 8:45 am]

BILLING CODE 6730-01-P